DEPARTMENT OF ENERGY

Federal Energy Regulatory Commission

Combined Notice of Filings #1

January 18, 2006.

Take notice that the Commission received the following electric rate filings:

Docket Numbers: ER01-48-004.

Applicants: Powerex Corporation.

Description: Powerex Corp submits an errata to Exhibits A and B of its 4/20/05 change in status filing.

Filed Date: 01/11/2006.

Accession Number: 20060113-0089.

Comment Date: 5 p.m. eastern time on Wednesday, February 1, 2006.

Docket Numbers: ER02-73-007.

Applicants: Llano Estacado Wind, LP.

Description: Llano Estacado Wind, LP submits revised tariffs designated as Original Sheet Nos. 1-4, FERC Electric Tariff, First revised Volume No. 1.

Filed Date: 01/11/2006.

Accession Number: 20060113-0143.

Comment Date: 5 p.m. eastern time on Wednesday, February 1, 2006.

Docket Numbers: ER02-580-005.

Applicants: Pawtucket Power Associates Limited Partnership.

Description: Pawtucket Power Associates L.P. submits an errata to its 6/16/05 filing of FERC Electric Tariff, Second Revised Volume No. 1.

Filed Date: 01/11/2006.

Accession Number: 20060113-0137.

Comment Date: 5 p.m. eastern time on Wednesday, February 1, 2006.

Docket Numbers: ER06-15-001.

Applicants: Southwest Power Pool, Inc.

Description: Southwest Power Pool, Inc and Midwest ISO submit a compliance filing in response to FERC's 12/05/05 deficiency letter.

Filed Date: 01/11/2006.

Accession Number: 20060113-0144.

Comment Date: 5 p.m. eastern time on Wednesday, February 1, 2006.

Docket Numbers: ER06-39-001.

Applicants: California Independent System Operator Corporation.

Description: The California Independent System Operator Corp submits its filing in compliance with FERC's 12/9/05 Order.

Filed Date: 01/09/2006.

Accession Number: 20060112-0354.

Comment Date: 5 p.m. eastern time on Monday, January 30, 2006.

Docket Numbers: ER06-140-001.

Applicants: American Electric Power Service Corporation.

Description: American Electric Power Service Corp as agent for Indiana Michigan Power Co's response to FERC's 12/22/05 letter re Cost-Based Formula Rate Agreement.

Filed Date: 01/11/2006.

Accession Number: 20060113-0141.

Comment Date: 5 p.m. eastern time on Wednesday, February 1, 2006.

Docket Numbers: ER06-147-000; ER06-462-000.

Applicants: Kentucky Utilities Company.

Description: Letter Requesting that the Commission Delay the Effective Date of the Notice of Cancellation Filing of Kentucky Utilities Co.

Filed Date: 01/05/2006.

Accession Number: 20060105-5031.

Comment Date: 5 p.m. eastern time on Monday, January 30, 2006.

Docket Numbers: ER06-268-001.

Applicants: Los Esteros Critical Energy Facility LLC.

Description: Los Esteros Critical Energy Facility, LLC submits Attachment A—corrections to Rate Schedule No.130 of its Reliability Must-Run Agreement with the California Independent System Operator Corp.

Filed Date: 01/11/2006.

Accession Number: 20060113-0142.

Comment Date: 5 p.m. eastern time on Wednesday, February 1, 2006.

Docket Numbers: ER06-332-001.

Applicants: ISO New England Inc.

Description: ISO New England Inc submits a page providing the missing text from its informational filing submitted on 12/15/05.

Filed Date: 01/10/2006.

Accession Number: 20060117-0220.

Comment Date: 5 p.m. eastern time on Tuesday, January 31, 2006.

Docket Numbers: ER06-472-000.

Applicants: LG&E Energy Marketing Inc.

Description: LG&E Energy Marketing , Inc submits an Agreement for Electric Service with Kenergy Corp.

Filed Date: 01/11/2006.

Accession Number: 20060113-0135.

Comment Date: 5 p.m. eastern time on Wednesday, February 1, 2006.

Docket Numbers: ER06-473-000.

Applicants: Central Vermont Public Service Corporation.

Description: Central Vermont Public Service Corp submits a non-conforming point-to-point service agreement under ISO New England Inc Tariff Schedule 20A.

Filed Date: 01/11/2006.

Accession Number: 20060113-0134.

Comment Date: 5 p.m. eastern time on Wednesday, February 1, 2006.

Docket Numbers: ER06-475-000.

Applicants: Colorado Power Partners.

Description: Colorado Power Partners submits revised sheets to its market based rate tariff, FERC Electric Tariff Volume No. 1.

Filed Date: 01/11/2006.

Accession Number: 20060117-0213.

Comment Date: 5 p.m. eastern time on Wednesday, February 1, 2006.

Docket Numbers: ER06-476-000.

Applicants: Westar Energy, Inc.

Description: Westar Energy, Inc submits a Notice of Cancellation of Supplement No.15, Service Schedule M under their First Revised Rate Schedule Federal Power Commission No. 93.

Filed Date: 01/11/2006.

Accession Number: 20060117-0214.

Comment Date: 5 p.m. eastern time on Wednesday, February 1, 2006.

Docket Numbers: ER88-478-001; ER91-576-002.

Applicants: Ocean State Power; Ocean State Power II.

Description: Ocean State Power and Ocean State Power II report a change in status to reflect certain departures from the facts the Commission relied upon in granting market-based rate authority.

Filed Date: 01/11/2006.

Accession Number: 20060113-0138.

Comment Date: 5 p.m. eastern time on Wednesday, February 1, 2006.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed docket(s). For assistance with any FERC Online service, please e-mail FERCOnlineSupport@ferc.gov. or call (866) 208-3676 (toll free). For TTY, call (202) 502-8659.

Magalie R. Salas,
Secretary.

[FR Doc. E6-826 Filed 1-24-06; 8:45 am]

BILLING CODE 6717-01-P